DEPARTMENT OF JUSTICE

Office of Justice Programs

[OJP (NIJ) Docket No. 1714]

Draft Test Procedures for the Gun Safety Technology Challenge

AGENCY: National Institute of Justice, Justice.

ACTION: Notice and request for comments.

SUMMARY: The National Institute of Justice (NIJ) seeks feedback from the public on the draft failure definition and scoring criteria (FDSC) developed for the Gun Safety Technology Challenge, published here: http://www.nij.gov/funding/pages/fy16-gun-safety-challenge.aspx. Evaluation of the test data will employ failure definition (FD) and scoring criteria (SC) to draw conclusions regarding the performance of the submitted firearms or firearms accessories. The document describes the FD and SC that will be used to “score” test events that occur during the testing of handguns, such as pistols and revolvers, in the Challenge.

DATES: Comments must be received by 5 p.m. Eastern Time on August 8, 2016.

How to Respond and What to Include: The draft FDSC document in both Word and pdf formats can be found here: http://www.nij.gov/funding/pages/fy16-gun-safety-challenge.aspx. To submit comments, please send an email to gunsafetytechnology@usdoj.gov. Please indicate the page number, section number, and the line number associated with each comment. Comments may also be provided as a markup of the Word document. Please provide contact information with the submission of comments.

SUPPLEMENTARY INFORMATION: NIJ was tasked with supporting the President's Plan to Reduce Gun Violence, specifically:

The President is directing the Attorney General to work with technology experts to review existing and emerging gun safety technologies, and to issue a report on the availability and use of those technologies. In addition, the Administration will issue a challenge to the private sector to develop innovative and cost-effective gun safety technology and provide prizes for those technologies that are proven to be reliable and effective.

In support of this Executive action, NIJ has conducted a technology assessment and market survey of existing and emerging gun safety technologies that would be of interest to the law enforcement and criminal justice communities and others with an interest in gun safety and advanced firearm technology. These firearms or firearms accessories can be understood to use integrated components that exclusively permit an authorized user or set of users to operate or fire the gun and automatically deactivate it under a set of specific circumstances, reducing the chances of accidental or purposeful use by an unauthorized user. The integrated gun safety technology may include different authentication technologies, such as radio frequency identification and fingerprint sensors.

A report published in June 2013 by NIJ entitled A Review of Gun Safety Technologies (https://www.ncjrs.gov/pdffiles1/nij/242500.pdf) examined existing and emerging gun safety technologies, and their availability and use, to provide a comprehensive perspective on firearms with integrated advanced safety technologies. Following the report, NIJ published a Federal Register Notice (https://federalregister.gov/a/2014-27368) to receive information regarding which firearms and firearms accessories, that incorporate advanced safety technologies, could be made available by industry for testing and evaluation in the Challenge.

NIJ now seeks an objective demonstration of the reliability of firearms available today with advanced gun safety technology integrated into the firearm. The reliability of firearms with integrated advanced safety technologies has been cited as a concern regarding the potential performance and user acceptance of products that may incorporate such technologies, as discussed in the 2013 NIJ report. It is anticipated that the results of the Challenge will provide a basis to improve the general understanding of whether the addition of a smart gun technology does or does not significantly reduce the reliability of the firearm system compared to existing firearms. It is believed that this is the first effort to apply a methodology to provide a rigorous and scientific assessment of the technical performance characteristics of these types of firearms.

With this Challenge, manufacturers and developers of (1) firearms that incorporate advanced safety technologies or (2) firearms accessories utilizing advanced safety technologies that are intended to modify firearms were able to submit their products for testing and evaluation. The Challenge is designed to proceed in an escalated manner in three stages, including an informational and safety review, light duty single product testing, and more heavy duty expanded product testing. To assess the reliability of smart gun technology, the U.S. Army Aberdeen Test Center (ATC) plans to perform firearm testing and evaluation. The Challenge was published on October 7, 2015, and closed to submissions on January 5, 2016.

NIJ hopes to better understand the effect of smart gun technology on the reliability of the firearm versus the same or similar firearms without the added safety technology. This Challenge seeks “apples to apples” comparisons to the greatest extent possible. Testing and evaluation is designed to prioritize the collection and use of data that can substantiate conclusions about the relative performance of firearms, so that firearms with and without advanced gun safety technology that are similar with respect to type, form factor, caliber, and other physical characteristics are tested and evaluated using a common methodology and equivalent ammunition. Testing and evaluation is not designed to provide comparison of test results against absolute performance requirements or safety criteria, but rather to provide a meaningful comparison of test results of one firearm against another similar firearm, or a firearm with and without a relevant safety accessory. NIJ recently sought feedback from the public on the draft test procedures developed for the Gun Safety Technology Challenge, published here: https://federalregister.gov/a/2016-10121. That document describes test methods to provide a basis to determine whether the addition of a smart gun technology does or does not significantly reduce the reliability of the firearm system compared to existing firearms.

Nancy Rodriguez,
Director, National Institute of Justice.

[FR Doc. 2016-14925 Filed 6-22-16; 8:45 am]

BILLING CODE 4410-18-P